NUCLEAR REGULATORY COMMISSION

[Docket Nos. 50-321, 50-366, 50-348, 50-364, 50-424, 50-425, 52-025, and 52-026; NRC-2024-0038]

Southern Nuclear Operating Company; Edwin I. Hatch Nuclear Plant, Units 1 and 2; Joseph M. Farley Nuclear Plant, Units 1 and 2; Vogtle Electric Generating Plant, Units 1, 2, 3, and 4; Environmental Assessment and Finding of No Significant Impact

AGENCY: Nuclear Regulatory Commission.

ACTION: Notice; issuance.

SUMMARY: The U.S. Nuclear Regulatory Commission (NRC) is making a finding of no significant impact (FONSI) for a proposed issuance of exemptions to Southern Nuclear Operating Company (SNC, the licensee), for Edwin I. Hatch Nuclear Power Plant (Hatch), Units 1 and 2, Joseph M. Farley Nuclear Plant (Farley), Units 1 and 2, and Vogtle Electric Generating Plant (Vogtle), Units 1, 2, 3, and 4 (SNC Fleet), located in Appling County, Georgia, Houston County, Alabama, and Burke County, Georgia, respectively. The proposed action would grant the licensee partial exemption from the physical barrier requirements in the NRC's regulations, to allow SNC to continue using vertical, rather than angled, barbed wire fence toppings in certain limited protected area sections onsite. The NRC is considering exemptions to Renewed Facility Operating License No. DPR-57, and No. NPF-5, at Hatch, Units 1 and 2, issued on January 15, 2002, Renewed Facility Operating License No. NPF-2, and No. NPF-8, at Farley, Units 1 and 2, issued on May 12, 2005, Renewed Facility Operating License No. NPF-68, and No. NPF-81, at Vogtle, Units 1 and 2, issued on June 3, 2009, and Facility Combined License No. NPF-91, and NPF-92, at Vogtle, Units 3 and 4, issued on February 10, 2012, and held by SNC for the operation of the SNC Fleet.

DATES: The environmental assessment referenced in this document is available on March 27, 2024.

ADDRESSES: Please refer to Docket ID NRC-2024-0038 when contacting the NRC about the availability of information regarding this document. You may obtain publicly available information related to this document using any of the following methods:

• Federal Rulemaking Website: Go to https://www.regulations.gov and search for Docket ID NRC-2024-0038. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: John G. Lamb, Office of Nuclear Reactor Regulation, U.S. Nuclear Regulatory Commission, Washington, DC 20555-0001; telephone: 301-415-3100; email: John.Lamb@nrc.gov.

SUPPLEMENTARY INFORMATION:

I. Introduction

The NRC is considering issuance of partial exemptions, pursuant to section 73.5 of title 10 of the Code of Federal Regulations (10 CFR), “Specific exemptions,” from the physical barrier requirement of 10 CFR 73.2, specifically with respect to the design criteria specified in 10 CFR 73.2, “Physical barrier,” paragraph 1, as it applies to the angular specification for brackets used to support the required barbed wire (or similar material) topper. These partial exemptions would be issued to SNC for Hatch, Units 1 and 2, Farley, Units 1 and 2, and Vogtle, Units 1, 2, 3, and 4, in Appling County, Georgia, Houston County, Alabama, and Burke County, Georgia, respectively.

Prior environmental reviews include NUREG-1437, “Generic Environmental Impact Statement for License Renewal of Nuclear Plants,” Supplement 4—Final Report (ADAMS Package Accession No. ML011590310), regarding Hatch, Units 1 and 2, published in May 2001; NUREG-1437, “Generic Environmental Impact Statement for License Renewal of Nuclear Plants,” Supplement 18—Final Report (ADAMS Accession No. ML050680297), regarding Farley, Units 1 and 2, published in March 2005; NUREG-1437, “Generic Environmental Impact Statement for License Renewal of Nuclear Plants,” Supplement 34—Final Report (ADAMS Accession No. ML083380325), regarding Vogtle, Units 1 and 2, published in December 2008; and NUREG-1947, “Final Supplemental Environmental Impact Statement for Combined License (COLs) for Vogtle Electric Generating Plant Unit 3 and 4” Final Report (ADAMS Accession No. ML11076A010) published in March 2011.

In accordance with 10 CFR 51.21, the NRC has prepared an environmental assessment (EA) that analyzes the environmental effects of the proposed action. Based on the results of the EA and in accordance with 10 CFR 51.31(a), the NRC has prepared a FONSI for the proposed exemption.

II. Environmental Assessment

Description of the Proposed Action

The proposed action would grant the licensee partial exemption from the physical barrier requirement of 10 CFR 73.2, specifically with respect to the design criteria specified in 10 CFR 73.2, “Physical barrier,” paragraph 1, as it applies to the angular specification for brackets used to support the required barbed wire (or similar material) topper. As stated in 10 CFR 73.2, fences must be constructed of No. 11 American wire gauge, or heavier wire fabric, topped by three strands or more of barbed wire or similar material on brackets angled inward or outward between 30 and 45 degrees from the vertical, with an overall height of not less than eight feet, including the barbed topping. If approved, the partial exemption would allow the licensee to continue to use, without modification, the current configuration of vertical barbed wire fence toppings in limited protected area sections on-site, as specified on the maps submitted by the licensee in its exemption application dated July 7, 2023 (ADAMS Accession No. ML23188A163), as supplemented by letters dated February 5 and 12, 2024 (ML24036A292 and ML24043A186, respectively), to meet the regulatory requirements of 10 CFR part 73, “Physical protection of plants and materials.” Specifically, barbed wire on top of physical barrier fencing on gates, near gates, near interfaces with buildings, and on corners is oriented vertically.

Need for the Proposed Action

Physical protection consists of a variety of measures to protect nuclear facilities and material against sabotage, theft, diversion, and other malicious acts. The NRC and its licensees use a graded approach for physical protection, consistent with the significance of the facilities or material to be protected. In so doing, the NRC establishes the regulatory requirements and assesses compliance, and licensees are responsible for providing the protection.

Since design criteria in 10 CFR 73.2 require the barbed wire fence toppings to be angled, the proposed action is needed to allow the licensee to continue to use, without modification, the current configuration of vertical barbed wire fence toppings in certain limited protected area sections on-site.

Separate from this EA, the NRC staff is evaluating the licensee's proposed action, which will be documented in staff evaluation reports for each site. The NRC staff's review will determine whether there is reasonable assurance that the SNC Fleet maintains adequate protection with the current physical barriers in accordance with the requirements in 10 CFR part 73.

Environmental Impacts of the Proposed Action

The NRC has completed its environmental evaluation of the proposed action. The proposed action would grant the licensee partial exemption from the design criteria specified in 10 CFR 73.2, “Physical barrier,” paragraph 1, as it applies to the angular specification for brackets used to support the required barbed wire (or similar material) topper. This will allow the licensee to continue using vertical, rather than angled, barbed wire fence toppings in certain limited protected area sections at the SNC Fleet sites.

The proposed action would have no direct impacts on land use or water resources. Impacts to terrestrial and aquatic biota would be negligible as the proposed action involves no new construction or modification of plant operational systems. There would be no changes to the quality or quantity of non-radiological effluents. No changes to the plant's National Pollutant Discharge Elimination System permit are needed. In addition, there would be no noticeable effect on air pollutant emissions, socio-economic conditions in the region, no environment justice impacts, and no impacts to historic and cultural resources. Therefore, there would be no significant non-radiological impacts associated with the proposed action.

The NRC has concluded that the proposed action would not have a significant adverse effect on the probability of an accident occurring. There would be no change to radioactive effluents that affect radiation exposures to plant workers and members of the public. No changes would be made to plant buildings or the site property. Therefore, implementing the proposed action would not result in a change to the radiation exposures to the public or radiation exposure to plant workers.

Environmental Impacts of the Alternatives to the Proposed Action

As an alternative to the proposed action, the NRC considered denial of the proposed action (i.e., the “no-action” alternative). Denial of the exemption request would result in the licensee having to replace the vertical barbed wire fence toppings with angled barbed wire that meets the definition of “Physical barrier” in 10 CFR 73.2. This could result in temporary, minor changes in vehicular traffic and associated air pollutant emissions due to any construction-related impacts of performing the necessary modifications, but no significant changes in ambient air quality would be expected.

Alternative Use of Resources

There are no unresolved conflicts concerning alternative uses of available resources under the proposed action.

Agencies and Persons Consulted

The NRC staff did not enter into consultation with any other Federal agency or with the States of Georgia and Alabama regarding the environmental impact of the proposed action.

III. Finding of No Significant Impact

The licensee has requested exemptions from the physical barrier requirement of 10 CFR 73.2, specifically with respect to the design criteria specified in 10 CFR 73.2, “Physical barrier,” paragraph 1, to allow the licensee to continue using vertical, rather than angled, barbed wire fence toppings in limited protected area sections on site. The NRC is considering issuing the requested exemption. The proposed action would not have a significant adverse effect on the probability of an accident occurring and would not have any significant radiological and non-radiological impacts. This FONSI incorporates by reference the EA in Section II of this notice. Based on the EA, the NRC concludes that the proposed action will not have a significant effect on the quality of the human environment. Accordingly, the NRC has determined not to prepare an environmental impact statement for the proposed action.

Dated: March 22, 2024.
For the Nuclear Regulatory Commission.
John Lamb,
Senior Project Manager, Plant Licensing Branch II-1, Division of Operating Reactor Licensing, Office of Nuclear Reactor Regulation.

[FR Doc. 2024-06491 Filed 3-26-24; 8:45 am]

BILLING CODE 7590-01-P